DEPARTMENT OF HOUSING AND URBAN DEVELOPMENT

[Docket No. FR-4922-N-04]

Privacy Act of 1974; Establishment of a New System of Records

AGENCY: Office of the Chief Information Officer, HUD.

ACTION: Notification of the establishment of a new system of records.

SUMMARY: Pursuant to the provisions of the Privacy Act of 1974 (5 U.S.C. 552a), as amended, the Department of Housing and Urban Development (HUD) is giving notice that it proposes to establish a new system of records entitled “Compliance Investigation and Enforcement Files (CIEF)” that will be used in performing compliance assistance and enforcement under the statutory jurisdiction of the Office of Healthy Homes and Lead Hazard Control (OHHLHC), and in supporting other administrative requirements related to the responsibilities of the Office.

CIEF facilitates more timely, accurate processing and use of this information to protect the health of children as well as to ensure compliance with applicable Federal statutes and regulations. CIEF contains: Residential property information; residential lease information; associated owner and/or agent information; documents related to lead-based paint and lead-based paint hazards, inspection reports, risk assessment reports, clearance tests, and associated disclosures and notifications; local housing code violation information; number of child lead-poisoning reports for a property; source of referral; and consent agreements and administrative settlements, and the associated monitoring of these agreements. CIEF also tracks the progress of the enforcement investigation.

System Security Measures: The integrity and availability of data in CIEF are important. Much of the data needs to be protected from unanticipated or unintentional modification. HUD restricts the access of this information to HUD approved officials and its agents. In addition, HUD has various system protocols in place to maintain data integrity, including: Virus protection software; daily data backups; and other documented procedures.

Vulnerabilities and corresponding security measures include: (1) Unauthorized access is reduced by restricting access to specified user identifications (User IDs) and passwords; and (2) during routine checking, or upon valid request, inaccurate and incomplete data are identified and corrected. Paper documents are stored in file cabinets and are handled in accordance with standard HUD procedures.

Data Quality: Residential property and owner/agent information is submitted to OHHLHC in electronic or paper format. CIEF will verify whether or not the information already exists in CIEF. If the property information does exist in CIEF, but is actively associated with another owner/agent, an error message will appear stating that the property, or the property and owner/agent association currently exists in CIEF. Information will be archived electronically for the database and physically for paper records when an active case or consent decree is closed or after seven years, whichever is earlier.

DATES: Effective Date: This proposal shall become effective without further notice on December 16, 2004, unless comments are received on or before that date which would result in a contrary determination.

Comments Due Date: December 16, 2004.

ADDRESSES: Interested persons are invited to submit comments regarding this notice to the Rules Docket Clerk, Office of General Counsel, Room 10276, Department of Housing and Urban Development, 451 7th Street, SW., Washington, DC 20410-0500. Communications should refer to the above docket number and title. Comments submitted will be available for public inspection and copying between 7:30 a.m. and 5:30 p.m. weekdays at the above address.

FOR FURTHER INFORMATION CONTACT: For Privacy Act Information: Jeanette Smith, Departmental Privacy Act Officer, telephone number (202) 708-2374. For OHHLHC, Compliance Investigation and Enforcement Files, Walter D. Wynn, telephone number (202) 755-1785, ext. 148. (These are not toll-free numbers.) A telecommunications device for hearing and speech-impaired persons (TTY) is available at 1-800-877-8339 (Federal Information Relay Services). (This is a toll-free number.)

SUPPLEMENTARY INFORMATION: Pursuant to the Privacy Act of 1974 (5 U.S.C. 552a), as amended, notice is given that HUD proposes to establish a new system of records identified as HUD/OHHLH-1, the Compliance Investigation and Enforcement Files (“CIEF”) of the Office of Healthy Homes and Lead Hazard Control (OHHLHC).

Title 5 U.S.C. 552a(e)(4) and (11) provide that the public be afforded a 30-day period in which to comment on the new record systems. The new system report was submitted to the Office of Management and Budget (OMB), the Senate Committee on Government Reform and Oversight and the House of Representatives Committee on Governmental Affairs pursuant to paragraph 4c of Appendix 1 to OMB Circular No. A-130, “Federal Responsibilities for Maintaining Records About Individuals,” July 25, 1994, 59 FR 37914.

Accordingly, this notice establishes a new system of records and accompanying routine uses to be created during the compliance assistance and enforcement process in HUD's Office of Healthy Homes and Lead Hazard Control.

Authority: 5 U.S.C. 552a; 88 Stat. 1896; 42 U.S.C. 3535(d).

Dated: November 8, 2004.
Carolyn Cockrell,
Acting Chief Technology Officer.

HUD/OHHLHC-1

SYSTEM NAME:

Compliance Investigation and Enforcement Files of the Office of Healthy Homes and Lead Hazard Control (“CIEF”).

SYSTEM LOCATION:

Headquarters.

CATEGORIES OF INDIVIDUALS COVERED BY THE SYSTEM:

Categories of individuals included in the system with respect to residential properties include: Owners, managers, agents, and landlords; potential purchasers; and prospective and actual tenants. Categories of individuals included in the system with respect to referrals of concerns include: tips or complaints that are not anonymous, EPA, local government agencies (e.g., health departments and building code enforcement agencies), not for profit organizations interested in protecting the rights and health of tenants, and the HUD Inspector General. Categories of individuals included in the system with respect to investigation of properties include: HUD employees.

CATEGORIES OF RECORDS IN THE SYSTEM:

Records consist of the following information pertaining to the owner, manager and agent: Name, title, address, telephone number, fax number, e-mail address, company name, corporate registration number, and corporate registered agent name. Records also include: Property information, residential lease information, documents related to lead-based paint and lead-based paint hazards, inspection reports, risk assessment reports, clearance tests, and associated disclosures and notifications, local housing code violation information, number of child lead-poisoning reports for a property, source of referral, consent agreements and administrative settlements, and the associated monitoring of these agreements.

AUTHORITY FOR MAINTENANCE OF THE SYSTEM:

HUD is charged with ensuring proper disclosure of information concerning lead upon transfer of residential property, whether by sale or lease, under 42 U.S.C. 4852(d). HUD has authority to promulgate regulations to enforce the statutory requirements under 42 U.S.C. 4852d(a)(1) and (2). HUD's statutory authority to enforce its regulations are found at 42 U.S.C. 4852d(a)(5) and (b). Additionally, HUD is charged with establishing procedures to eliminate the hazards of lead-based paint in any housing receiving Federal assistance under 42 U.S.C. 4822(a). 24 CFR part 35 contains the implementing regulations promulgated pursuant to the statutes.

PURPOSES:

The primary purpose of CIEF is to enable OHHLHC to complete its statutory responsibility to ensure compliance with the Lead Disclosure Rule 24 CFR 35, subpart A, and the Lead Safe Housing Rule 24 CFR part 35, subparts B-R. The lead disclosure is to occur before a lessee or buyer is obligated under a lease or sale agreement. The only way to verify disclosure is to evaluate the documentation that memorializes these transactions and the parties involved. Since knowledge is an integral aspect of disclosure, any documentation regarding knowledge of lead (e.g., lead-based paint inspections, lead-based paint inspections risk assessments, hazard reduction activities, local abatement orders or notices of code violations, etc.) is necessary for verifying what and when the owner or his agent knew or should have known.

In the case of federally assisted housing, the owner or designated party is required to perform some type of inspection and attendant abatement action. The regulations require ongoing activities until all lead-based paint is removed, including use of lead safe work practices and notification of tenants regarding all of these activities.

If an OHHLHC investigation indicates a violation or potential violation of the lead disclosure rule, relevant documents may be disclosed to the appropriate Federal, state or local authority for investigation or enforcement of the applicable laws and regulations. If an OHHLHC investigation indicates a violation or potential violation of the lead safe housing rule, relevant documents may be disclosed to the appropriate program office or Enforcement Center for investigation or enforcement of the applicable laws and regulations.

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. Records may be disclosed to individuals under contract, cooperative agreement, or working agreement with HUD to assist the Department in fulfilling its statutory lead disclosure responsibilities.

2. Records may be disclosed during the course of an administrative proceeding where HUD or other federal agency is a party, to the Administrative Law Judge and the interested parties to the extent necessary for conducting the proceeding.

3. Records may be disclosed to the Department of Justice for litigation purposes associated with the representation of HUD or other Federal agency before the courts.

4. Records may be disclosed to a confidential source to the extent necessary to assist the Office of Inspector General in an investigation.

POLICIES AND PRACTICES FOR STORING, RETRIEVING, ACCESSING, RETAINING, AND DISPOSING OF RECORDS IN THE SYSTEM:

STORAGE:

Records are stored electronically in computers and in hard copy format in file cabinets or other secure storage units.

RETRIEVABILITY:

Records may be retrieved by manual or computer search by the name of the property owner, manager, or agent.

SAFEGUARDS:

Records are maintained in a secure computer network, and in locked file cabinets in rooms with controlled access.

RETENTION AND DISPOSAL:

Information will be archived electronically for the database and physically for paper records when an active case or consent is closed or after seven years, whichever is earlier. Documents referred to HUD's OIG will become part of the OIG Investigative Files. Records will be retained and disposed of in accordance with the General Records Schedule included in HUD Handbook 2228.2, appendix 14, items 21-26.

SYSTEM MANAGER AND ADDRESS:

Walter D. Wynn, Office of Healthy Homes and Lead Hazard Control, 451 7th Street, SW., Suite P-7110, Washington, DC 20410.

NOTIFICATION AND RECORD ACCESS PROCEDURES:

Individuals seeking to determine whether this system of records contains information about them, or those seeking access to such records, should address inquiries to the Project Manager of OHHLHC-CIEF, U.S. Department of Housing and Urban Development, 451 7th Street, SW., Suite P-7110, Washington, DC 20410. Written requests must include the full name, current address, and telephone number of the individual making the request, including a description of the requester's relationship to the information in question. The System Manager will accept inquiries from individuals seeking notification of whether the system contains records pertaining to them.

CONTESTING RECORD PROCEDURES:

The procedures for requesting amendment or correction of records appear in 24 CFR part 16. If additional information or assistance is required, contact the Privacy Act Appeals Officer, Office of General Counsel, Department of Housing and Urban Development, 451 Seventh Street, SW., Washington, DC 20410.

RECORD SOURCE CATEGORIES:

Information may be collected from a wide variety of sources, including from HUD, other Federal, state, Indian tribal, and local agencies, program participants, subject individuals, complainants, witnesses and other non-government sources.

EXEMPTIONS FROM CERTAIN PROVISIONS OF THE ACT:

None.

[FR Doc. E4-3164 Filed 11-15-04; 8:45 am]

BILLING CODE 4210-27-P